DEPARTMENT OF HOMELAND SECURITY

U.S. Customs and Border Protection

[Docket No. USCBP-2012-0046]

Notice of Meeting of the Advisory Committee on Commercial Operations of Customs and Border Protection (COAC)

AGENCY: U.S. Customs and Border Protection, Department of Homeland Security (DHS).

ACTION: Notice of Federal Advisory Committee Meeting.

SUMMARY: The Advisory Committee on Commercial Operations of U.S. Customs and Border Protection (COAC) will meet Tuesday, January 15, 2013 from 2:00 to 3:00 p.m. EST via teleconference. The meeting will be open to the public.

DATES: The COAC meeting will take place from 2:00 to 3:00 p.m. EST on Tuesday, January 15, 2013 via teleconference. Please be advised that the meeting is scheduled for one hour and that the meeting may close early if the committee completes its business.

Registration: If you plan on attending, please register either online at https://apps.cbp.gov/te_registration/?w=112 or by email to tradeevents@dhs.gov, or by fax to 202-325-4290 by close-of-business on January 11, 2013.

If you have completed an online on-site registration and wish to cancel your registration, you may do so at https://apps.cbp.gov/te_registration/cancel.asp?w=112.

Please feel free to share this information with interested members of your organizations or associations.

ADDRESSES: The meeting will be held via teleconference. Members of the public interested in attending this teleconference meeting may do so by following the process outlined below (see “Public Participation”). Written comments must be submitted and received by January 9, 2013. Comments must be identified by USCBP-2012-0046 and may be submitted by one of the following methods:

• Federal eRulemaking Portal: http://www.regulations.gov. Follow the instructions for submitting comments.

• Email: tradeevents@dhs.gov. Include the docket number in the subject line of the message.

• Fax: 202-325-4290.

• Mail: Ms. Wanda Tate, Office of Trade Relations, U.S. Customs and Border Protection, Department of Homeland Security, 1300 Pennsylvania Avenue NW., Room 3.5-A, Washington, DC 20229.

Instructions: All submissions received must include the words “Department of Homeland Security” and the docket number for this action. Comments received will be posted without alteration at www.regulations.gov, including any personal information provided.

Docket: For access to the docket to read background documents or comments received by COAC, go to http://www.regulations.gov.

FOR FURTHER INFORMATION CONTACT: Ms. Wanda Tate, Office of Trade Relations, U.S. Customs and Border Protection, Department of Homeland Security, 1300 Pennsylvania Avenue NW., Room 3.5-A, Washington, DC 20229; tradeevents@dhs.gov; telephone 202-344-1440; facsimile 202-325-4290.

SUPPLEMENTARY INFORMATION: Pursuant to the Federal Advisory Committee Act (5 U.S.C. App.), DHS hereby announces the meeting of the Advisory Committee on Commercial Operations of Customs and Border Protection (COAC). COAC is tasked with providing advice to the Secretary of Homeland Security, the Secretary of the Treasury, and the Commissioner of U.S. Customs and Border Protection (CBP) on matters pertaining to the commercial operations of CBP and related functions within DHS or the Department of the Treasury. The teleconference meeting of the COAC will be held on the date and time specified above. The COAC will meet to review, discuss next steps, and formulate recommendations on the work of the One U.S. Government at the Border subcommittee: Master Principles for a One U.S. Government at the Border Cooperation document.

Public Participation: This meeting is open to the public; however, participation in COAC deliberations is limited to committee members and the COAC chairs. Please note that the meeting may close early if all business is finished. Members of the public may register online to attend this COAC teleconference meeting as per the instructions set forth below. All members of the public wishing to attend should promptly call in at the beginning of the teleconference.

Each individual must provide his or her full legal name, email address and phone number no later than 5:00 p.m. EST on January 9, 2013, via email at tradeevents@dhs.gov or via phone at 202-344-1440. The meeting's teleconference call details will be provided to registered members of the public via email.

Information on Services for Individuals with Disabilities: For information on facilities or services for individuals with disabilities or to request special assistance at the meeting, contact Ms. Wanda Tate as soon as possible.

Dated: December 21, 2012.
Maria Luisa O'Connell,
Senior Advisor for Trade, Office of Trade Relations.

[FR Doc. 2012-31280 Filed 12-27-12; 8:45 am]

BILLING CODE 9111-14-P